FEDERAL ACCOUNTING STANDARDS ADVISORY BOARD

Release of Exposure Draft of Technical Bulletin 2009-1: Deferral of the Effective Date of Technical Bulletin 2006-1, Recognition and Measurement of Asbestos-Related Cleanup Costs

AGENCY: Federal Accounting Standards Advisory Board.

ACTION: Notice of Release of Exposure Draft of Technical Bulletin 2009-1, Deferral of the Effective Date of Technical Bulletin 2006-1, Recognition and Measurement of Asbestos-Related Cleanup Costs.

Board Action: Pursuant to 31 U.S.C. 3511(d), the Federal Advisory Committee Act (Pub. L. 92-463), as amended, and the FASAB Rules of Procedure, as amended in April 2004, notice is hereby given that the Federal Accounting Standards Advisory Board (FASAB) has released the Exposure Draft of Technical Bulletin 2009-1, Deferral of the Effective Date of Technical Bulletin 2006-1, Recognition and Measurement of Asbestos-Related Cleanup Costs.

The purpose of this proposed technical bulletin is to defer the effective date of Technical Bulletin 2006-1, Recognition and Measurement of Asbestos-Related Cleanup Costs, for two years.

The Technical Bulletin 2009-1 Exposure Draft is available on the FASAB home page http://www.fasab.gov/exposure.html. Copies can be obtained by contacting FASAB at (202) 512-7350.

Respondents are encouraged to comment on any part of the exposure draft. Written comments are requested by July 17, 2009, and should be sent to: Wendy M. Payne, Executive Director, Federal Accounting Standards Advisory Board, 441 G Street, NW., Suite 6814, Mail Stop 6K17V, Washington, DC 20548.

FOR FURTHER INFORMATION CONTACT: Wendy Payne, Executive Director, 441 G Street, NW., Washington, DC 20548, or call (202) 512-7350.

Authority: Federal Advisory Committee Act, Public Law 92-463.

Dated: June 8, 2009.
Charles Jackson,
Federal Register Liaison Officer.

[FR Doc. E9-13803 Filed 6-11-09; 8:45 am]

BILLING CODE 1610-01-M